NUCLEAR REGULATORY COMMISSION

[Docket No. 030-36974]

Notice of Availability of Draft Environmental Assessment and Finding of No Significant Impact for Proposed Pa'ina Hawaii, LLC Irradiator in Honolulu, Hawaii

AGENCY: Nuclear Regulatory Commission.

ACTION: Notice of availability of opportunity to provide comments.

SUMMARY: Notice is hereby given that the U.S. Nuclear Regulatory Commission (NRC) is issuing a draft Environmental Assessment (EA) for the Pa'ina Hawaii, LLC (Pa'ina or the applicant) license application, dated June 27, 2005. The draft EA is being issued as part of the NRC's decision-making process on whether to issue a license to Pa'ina, pursuant to Title 10 of the U.S. Code of Federal Regulations Part 36, “Licenses and Radiation Safety Requirements for Irradiators.” The license would authorize the use of sealed radioactive sources in an underwater irradiator for the production and research irradiation of food, cosmetic, and pharmaceutical products. The proposed irradiator would be located immediately adjacent to Honolulu International Airport on Palekona Street near Lagoon Drive. The irradiator would primarily be used for phytosanitary treatment of fresh fruit and vegetables bound for the mainland from the Hawaiian Islands and similar products being imported to the Hawaiian Islands as well as irradiation of cosmetics and pharmaceutical products. The irradiator would also be used by the applicant to conduct research and development projects, and irradiate a wide range of other materials as specifically approved by the NRC on a case-by-case basis.

The NRC staff will also hold a public meeting to present an overview of the draft EA and to accept oral and written public comments. The meeting date, time and location are listed below:

Meeting Date: Thursday, February 1, 2007.

Meeting Location: Ala Moana Hotel, 410 Atkinson Drive, Honolulu, Hawaii 96814, Hotel Telephone number 808-955-4811.

Informal Open House: 6 p.m.—7 p.m.

NRC Overview Presentation: 7 p.m.—7:30 p.m.

Question and Answer: 7:30 p.m.—8 p.m.

Comment Session: 8 p.m.—9 p.m.

Prior to the public meeting, the NRC staff will be available to informally discuss the proposed Pa'ina project and answer questions in an “open house” format. This “open house”' format provides for one-on-one discussions with the NRC staff involved with the preparation of the draft EA. The draft EA meeting officially begins at 7:00 PM and will include: (1) A presentation summarizing the contents of the draft EA and (2) an opportunity for interested government agencies, organizations, and individuals to provide comments on the draft EA. This portion of the meeting will be transcribed by a court reporter. Persons wishing to provide oral comments will be asked to register at the meeting entrance. Individual oral comments may have to be limited by the time available, depending upon the number of persons who register.

Additionally, the NRC will set up a toll-free telephone number that interested members of the public may use to participate. Details of the toll free telephone number will be provided in a public notice prior to the meeting.

Please note that comments do not have to provided at the public meeting and may be submitted at any time throughout the comment period as described in the DATES and ADDRESSES sections of this notice.

DATES: The public comment period on the draft EA begins with publication of this notice and continues until February 8, 2007. Written comments should be submitted as described in the ADDRESSES section of this notice. Comments submitted by mail should be postmarked by that date to ensure consideration. Comments received or postmarked after that date will be considered to the extent practical. A public meeting to discuss the draft EA will be held as described in the SUMMARY section of this notice.

ADDRESSES: Members of the public are invited and encouraged to submit comments to the Chief, Rules Review and Directives Branch, Mail Stop T6-D59, U.S. Nuclear Regulatory Commission, Washington, DC 20555-0001. Please note Docket No. 030-36974 when submitting comments. Comments will also be accepted by e-mail at NRCREP@nrc.gov or by facsimile to (301) 415-5397, Attention: Matthew Blevins.

FOR FURTHER INFORMATION CONTACT: Matthew Blevins, Environmental Project Manager, Environmental and Performance Assessment Branch, Division of Waste Management and Environmental Protection, Mail Stop T7-J8, U.S. Nuclear Regulatory Commission, Washington, DC, 20555-0001. Telephone: (301) 415-7684; e-mail: mxb6@nrc.gov

SUPPLEMENTARY INFORMATION:

I. Introduction

On June 27, 2005, the U.S. Nuclear Regulatory Commission (NRC) received a license application from Pa'ina Hawaii, LLC, that, if approved, would authorize the use of sealed radioactive sources in an underwater irradiator for the production and research irradiation of food, cosmetic, and pharmaceutical products. The proposed irradiator would be located immediately adjacent to Honolulu International Airport on Palekona Street near Lagoon Drive. The irradiator would primarily be used for phytosanitary treatment of fresh fruit and vegetables bound for the mainland from the Hawaiian Islands and similar products being imported to the Hawaiian Islands as well as irradiation of cosmetics and pharmaceutical products. The irradiator would also be used by the applicant to conduct research and development projects, and irradiate a wide range of other materials as specifically approved by the NRC on a case-by-case basis.

The NRC has completed its initial evaluation of the proposed irradiator against the requirements found in the NRC's regulations at Title 10 of the Code of Federal Regulations, Part 36, “Licenses and Radiation Safety Requirements for Irradiators,” (i.e., 10 CFR Part 36). Typically, the licensing of irradiators is categorically excluded from detailed environmental review as described in the NRC regulations at 10 CFR 51.22(c)(14)(vii). However, the NRC staff entered into a settlement agreement with Concerned Citizens of Honolulu, the interveners in the adjudicatory hearing to be held on the license application. The settlement agreement included a provision for the NRC staff to prepare this draft EA and hold a public comment meeting in Honolulu, Hawaii prior to making a final decision.

The complete draft EA is available on the NRC's Web site: http://www.nrc.gov/materials.html and by selecting “Pa'ina Irradiator” in the Quick Links box. Copies are also available by contacting Matthew Blevins as noted above.

II. EA Summary

The purpose of the license request (i.e., the proposed action) is to authorize Pa'ina Hawaii to use sealed radioactive sources in a pool irradiator to be located adjacent to the Honolulu International Airport, Honolulu, Hawaii. Pa'ina's license request was previously noticed in the Federal Register on August 2, 2005 (70 FR 44396) with a notice of an opportunity to request a hearing.

The staff has prepared the draft EA in support of its review of the license application. The staff considered impacts to such areas as public and occupational health, transportation of the sources, socioeconomics, ecology, water quality, and the effects of aviation accidents and natural phenomena. During routine operations the dose rate at the surface of the irradiator pool is expected to be well below 1 millirem/hour. Considering the location of personnel and operational practices of the irradiator, it is unlikely that an employee could receive more than the occupational dose limit which is 5,000 millirem/year. The expected dose rates outside the building are expected to be indistinguishable from naturally occurring background radiation, therefore it is unlikely that a member of the public could receive more than public dose limit which is 100 millirem/year. For the shipment of the radioactive sources, the maximum dose is also expected to be very small: 0.04 mrem/year. The staff also considered alternative treatments such as fumigation with methyl bromide and heat treatments.

The staff completed consultations under Section 7 of the Endangered Species Act and Section 106 of the National Historic Preservation Act. In addition the staff is providing interested members of the public, the applicant, and State officials with an opportunity to comment on the draft EA.

The complete draft EA is available on the NRC's Web site: http://www.nrc.gov/materials.html and by selecting “Pa'ina Irradiator” in the Quick Links box. Copies are also available by contacting Matthew Blevins as noted above.

III. Finding of No Significant Impact

The NRC staff has concluded that the proposed action will comply with the licensing requirements found in 10 CFR Part 20, “Standards for Protection Against Radiation” and 10 CFR Part 36, “Licenses and Radiation Safety Requirements for Irradiators.” Occupational and public exposure to radiation will be significantly less than the limits in 10 CFR Part 20.

The NRC staff has prepared this draft EA in support of the proposed action to issue a license to Pa'ina Hawaii for the possession and use of sealed radioactive sources in an underwater irradiator for the production and research irradiation of food, cosmetic, and pharmaceutical products. On the basis of this EA, NRC has concluded that there are no significant environmental impacts and the license application does not warrant the preparation of an Environmental Impact Statement. Accordingly, it has been determined that a Finding of No Significant Impact is appropriate.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: Pa'ina License Application; ML052060372; NRC Draft Environmental Assessment, ML063470231. If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O1-F21, One White Flint North, 11555 Rockville Pike, Rockville, MD 20852. The PDR reproduction contractor will copy documents for a fee.

Dated at Rockville, Maryland this 21st day of December, 2006.
For the Nuclear Regulatory Commission.
Gregory Suber,
Acting Section Chief, Environmental Review Branch, Division of Waste Management and Environmental Protection, Office of Federal and State Materials and Environmental Management Programs.

[FR Doc. E6-22241 Filed 12-27-06; 8:45 am]

BILLING CODE 7590-01-P